CONSUMER PRODUCT SAFETY COMMISSION

Civil Penalties; Notice of Adjusted Maximum Amounts

AGENCY: Consumer Product Safety Commission.

ACTION: Notice of adjusted maximum civil penalty amounts.

SUMMARY: In 1990, Congress enacted statutory amendments to adjust the maximum civil penalty amounts authorized under the Consumer Product Safety Act (CPSA), the Federal Hazardous Substances Act (FHSA), and the Flammable Fabrics Act (FFA). On August 14, 2008, the Consumer Product Safety Improvement Act of 2008 (CPSIA) increased the maximum civil penalty amounts to $100,000 for each violation and $15,000,000 for any related series of violations. The CPSIA tied the effective date of the new amounts to the earlier of the date on which final regulations are issued or 1 year after August 14, 2008. The new amounts became effective on August 14, 2009. The CPSIA also revised the starting date, from December 1, 1994 to December 1, 2011, and December 1 of each fifth calendar year, thereafter, on which the Commission must prescribe and publish in the Federal Register, the schedule of maximum authorized penalties. On November 23, 2016, the CPSC published increased maximum authorized civil penalty amounts of $110,000 for each violation and $16,025,000 for any related series of violations. As calculated in accordance with the amendments, the new amounts are $120,000 for each violation and $17,150,000 for any related series of violations.

DATES: The new amounts will become effective after January 1, 2022.

FOR FURTHER INFORMATION CONTACT: Amy S. Colvin, Attorney, Office of the General Counsel, U.S. Consumer Product Safety Commission, 4330 East-West Highway, Bethesda, MD 20814; telephone (301) 504-7639; email acolvin@cpsc.gov.

SUPPLEMENTARY INFORMATION: The Consumer Product Safety Improvement Act of 1990 (Improvement Act), Public Law 101-608, 104 stat. 3110 (Nov. 16, 1990), and the CPSIA, Public Law 110-314, 122 stat. 3016 (Aug. 14, 2008), amended the CPSA, FHSA, and the FFA. The Improvement Act added civil penalty authority to the FHSA and FFA, which previously contained only criminal penalties. 15 U.S.C. 1264(c) and 1194(e). The Improvement Act also increased the maximum civil penalty amounts applicable to civil penalties under the CPSA and set the same maximum amounts for the newly created FHSA and FFA civil penalties. 15 U.S.C. 2069(a)(1), 1264(c)(1) and 1194(e)(1).

The Improvement Act amended the CPSA, FHSA, and FFA to adjust the maximum civil penalty amounts periodically for inflation. 15 U.S.C. 2069(a)(3), 1264(c)(6), and 1194(e)(5). The Improvement Act required that the Commission “prescribe and publish in the Federal Register a schedule of maximum authorized penalties that shall apply for violations that occur after January 1 of the year immediately following such publication” not later than December 1, 1994, and December 1 of each fifth calendar year thereafter and directed how the Commission must calculate the schedule. Section 115(a)-(c) of Public Law 101-608.

The CPSIA amended the CPSA, FHSA, and FFA to increase the maximum authorized civil penalty amounts to $100,000 for each violation, and $15,000,000 for any related series of violations. 15 U.S.C. 2069(a)(1), 1264(c)(1), and 1194(e)(1). The CPSIA amended the starting date in the CPSA from not later than December 1, 1994, and December 1 of each fifth calendar year thereafter, to not later than December 1, 2011, and December 1 of each fifth calendar year thereafter, as the date on which “the Commission shall prescribe and publish in the Federal Register a schedule of maximum authorized penalties that shall apply for violations that occur after January 1 of the year immediately following such publication.” Section 217 (a)(1)-(3) of Public Law 110-314. The CPSIA tied the effective date of the new amounts to the earlier of the date on which final regulations are issued under section 217(b)(2) of Public Law 110-314, or 1 year after August 14, 2008. Section 217(a)(4) of Public Law 110-314. The new amounts became effective on August 14, 2009.

The Commission's Directorate for Economics calculated the cost-of-living adjustment increases the maximum civil penalty amounts to $117,656 for each violation, and to $17,140,340 for any related series of violations. In accordance with statutory directions regarding rounding, the adjusted maximum amounts are $120,000 for each violation, and $17,150,000 for any related series of violations. These new amounts apply to violations that occur after January 1, 2022.

Alberta E. Mills,
Secretary, Consumer Product Safety Commission.

[FR Doc. 2021-26082 Filed 11-30-21; 8:45 am]

BILLING CODE 6355-01-P